DEPARTMENT OF DEFENSE

Department of the Army

Corps of Engineers

Intent To Prepare a Draft Programmatic Environmental Impact Statement (PEIS) for the Development of a Multi-Decadal Shoreline Protection Plan, Known as the Bogue Banks Beach Master Nourishment Plan (Master Plan), for the 25-Mile Ocean Shoreline of Bogue Banks in Carteret County, NC

AGENCY: Department of the Army, U.S. Army Corps of Engineers, DoD.

ACTION: Notice of intent.

SUMMARY: The U.S. Army Corps of Engineers (USACE), Wilmington District, Wilmington Regulatory Field Office has received a request for Department of the Army authorization, pursuant to Section 404 of the Clean Water Act and Section 10 of the Rivers and Harbor Act, from Carteret County to develop and implement, under an inter-local agreement between the towns on Bogue Banks barrier island, a multi-decadal Master Plan that would provide ocean shoreline protection to approximately 25 miles of beach over a minimum period of 30 years.

DATES: A public scoping meeting for the Draft PEIS will be held at Crystal Coast Civic Center near the Carteret County Community College, located at 3505 Arendell Street in Morehead City, on September 30, 2010 at 6 p.m. Written comments will be received until October 15, 2010.

ADDRESSES: Copies of comments and questions regarding scoping of the Draft PEIS may be submitted to: U.S. Army Corps of Engineers, Wilmington District, Regulatory Division. Attn: File Number 2009-0293, 69 Darlington Avenue, Wilmington, NC 28403.

FOR FURTHER INFORMATION CONTACT: Questions about the proposed action and Draft PEIS can be directed to Mr. Mickey Sugg, Project Manager, Wilmington Regulatory Field Office, telephone: (910) 251-4811.

SUPPLEMENTARY INFORMATION: 1. Project Description. As a result of significant hurricane activity in the 1990's, the County and many of the municipalities on Bogue Banks have implemented several interim beach nourishment activities in order to curb ocean shoreline erosion and to help improve protection against future storms. For the past 10 years, the County has been in a cost share agreement with the USACE, currently in the Reconnaissance Study phase, to conduct a federal 50-year Shore Protection Project for Bogue Banks to help sustain the island long term. However, with the uncertainties of the federal long-term plan, the County and the beach municipalities have determined the need to reevaluate their long-term beach nourishment solutions for Bogue Banks. The development of the Master Plan will involve review all of the previous nourishment efforts and current plans and formulation of a multi-decadal all inclusive nourishment plan for the entire barrier island of Bogue Banks.

The Master Plan and PEIS will include a comprehensive review of present-day beach conditions, a review of Carteret County's and the USACE's previous beach nourishment/beneficial use projects, and the development of a multi-decadal plan based on volumetric/beach elevation thresholds for Fort Macon/Atlantic Beach, Pine Knoll Shores, Indian Beach/Salter Path, and Emerald Isle. The Master Plan will address all anticipated beach nourishment/maintenance activities including but not limited to; Atlantic Intracoastal Waterway (AIWW) dredging with concurrent beach disposal, beneficial use dredging projects/opportunities, FEMA reimbursement projects, and other potential sand placement or beach maintenance activities (beach bulldozing, etc.). Potential sand source locations to be evaluated in the Draft PEIS could include the Ocean Dredged Material Disposal Site (ODMDS) located offshore of Beaufort Inlet, the USACE nearshore placement area, Bogue Inlet, AIWW reaches, preliminary USACE offshore borrow locations, previously permitted Carteret County offshore borrow locations, and upland sources. The Master Plan will: (a) Establish acceptable ranges of in-situ beach volumes and elevations, (b) establish beach volumetric and elevation triggers for nourishment events, (c) continue a basis for FEMA reimbursement qualifications, (d) conform to the North Carolina Division of Coastal Management's (NCDCM) rules for static vegetation line exceptions, and (e) establish a programmatic approach facilitating the authorization and scheduling of Bogue Banks' nourishment/maintenance events.

Natural resource studies and investigations which may be conducted in support of the plan formulation include: (1) Identification and biological characterization of estuarine habitat types (salt marsh, shellfish, submerged aquatic vegetation) in a defined project area using aerial mapping and/or groundtruth investigations; (2) pre-project monitoring of, and/or use of existing data, on threatened and endangered species and their associated habitats as determined through coordination with project stakeholders; (3) development and/or implementation of project monitoring and mitigation plans based on the project impact assessment, and 4) the development of a cumulative impact assessment.

2. Issues. There are several potential environmental issues that will be addressed in the PEIS. Additional issues may be identified during the scoping process. Issues initially identified as potentially significant include:

a. Potential impacts to marine biological resources (benthic organisms, passageway for fish and other marine life) and Essential Fish Habitat.

b. Potential impacts to threatened and endangered marine mammals, birds, fish, and plants.

c. Potential impacts associated with using inlets as a sand source.

d. Potential impacts to public lands, such as adjacent State Parks (Hammocks Beach and Forth Macon) and Federal lands (Cape Lookout National Seashore).

e. Potential impacts to Navigation, commercial and recreational.

f. Potential impacts to the long-term management.

g. Potential effects on regional sand sources and how it relates to sand management practices.

h. Potential effects of shoreline protection.

i. Potential impacts on public health and safety.

k. Potential impacts to recreational and commercial fishing.

l. The compatibility of the material for nourishment.

m. Potential impacts to cultural resources.

n. Cumulative impacts of past, present, and foreseeable future dredging and nourishment activities.

3. Alternatives. Several alternatives and sand sources are being considered for the development of the management plan. These alternatives will be further formulated and developed during the scoping process and an appropriate range of alternatives, including the no federal action alternative, will be considered in the PEIS.

4. Scoping Process. A public scoping meeting (see DATES) will be held to receive public comment and assess public concerns regarding the appropriate scope and preparation of the Draft PEIS. Participation in the public meeting by federal, state, and local agencies and other interested organizations and persons is encouraged.

The USACE will consult with the U.S. Fish and Wildlife Service under the Endangered Species Act and the Fish and Wildlife Coordination Act; with the National Marine Fisheries Service under the Magnuson-Stevens Fishery Conservation and Management Act and the Endangered Species Act; and with the North Carolina State Historic Preservation Office under the National Historic Preservation Act. The USACE will also coordinate with the Bureau of Ocean Energy Management, Regulation and Enforcement, formerly known as Minerals Management Service (MMS), to ensure the plan complies with the Outer Continental Shelf Lands Act (OCSLA). Additionally, the USACE will coordinate the PEIS with the North Carolina Division of Water Quality (NCDWQ) to assess the potential water quality impacts pursuant to Section 401 of the Clean Water Act, and with the North Carolina Division of Coastal Management (NCDCM) to determine the projects consistency with the Coastal Zone Management Act. The USACE will closely work with NCDCM and NCDWQ in the development of the PEIS to ensure the process complies with all State Environmental Policy Act (SEPA) requirements. It is the intention of both the USACE and the State of North Carolina to consolidate the NEPA and SEPA processes thereby eliminating duplication.

6. Availability of the Draft PEIS. The Draft PEIS is expected to be published and circulated by August 2011. A public hearing may be held after the publication of the Draft PEIS.

Dated: September 3, 2010.
S. Kenneth Jolly,
Chief, Regulatory Division.

[FR Doc. 2010-22708 Filed 9-14-10; 8:45 am]

BILLING CODE 3720-58-P